DEPARTMENT OF LABOR

Employment and Training Administration

[TA-W-64,993]

TTM Technologies, Including On-Site Leased Workers From Kelly Services, Aerotek, and an On-Site Leased Worker From Orbotech, Inc., Redmond, WA; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on January 23, 2008, applicable to workers of TTM Technologies, Redmond, Washington. The notice was published in the Federal Register on March 25, 2009 (74 FR 12901).

At the request of the State agency, the Department reviewed the certification for workers of the subject firm. The workers are engaged in the production of printed circuit boards.

New information shows that a worker leased from Orbotech, Inc. was employed on-site at TTM Technologies, Redmond, Washington. The Department has determined that this worker was sufficiently under the control of TTM Technologies, Redmond, Washington to be considered a leased worker.

Based on these findings, the Department is amending this certification to include a worker leased from Orbotech, Inc., working on-site at the Redmond, Washington location of the TTM Technologies.

The amended notice applicable to TA-W-64,993 is hereby issued as follows:

“All workers TTM Technologies, including on-site leased workers from Kelly Services and Aerotek, and including an on-site leased worker from Orbotech, Inc., Redmond, Washington, who became totally or partially separated from employment on or after January 23, 2008 through March 11, 2011, are eligible to apply for adjustment assistance under Section 223 of the Trade Act of 1974, and are also eligible to apply for alternative trade adjustment assistance under Section 246 of the Trade Act of 1974.”

Signed at Washington, DC this 8th day of October 2010.
Elliott S. Kushner,
Certifying Officer, Office of Trade Adjustment Assistance.

[FR Doc. 2010-27380 Filed 10-28-10; 8:45 am]

BILLING CODE 4510-FN-P